DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 66 FR 41249-51, dated August 7, 2001).

This notice is to reflect changes in the Office of Management and Program Support in the Health Resources and Services Administration (HRSA), establishes the Office of International Health Affairs and places the Office of Information Technology in the Office of the Administrator.

1. Delete the functional statement for the Office of Management and Program Support (RS) in its entirety and replace with the following:

Office of Management and Program Support (RS)

Provides agencywide leadership, program direction, and coordination to all phases of management: Specifically (1) provides management expertise and staff advice and support to the Administrator in program and policy formulation and execution; (2) plans, directs, and coordinates the Agency's activities in the areas of administrative management, financial management, human resources management, including labor relations, debt management, audits, grants and procurement management, real and personal property accountability and management, alternative dispute resolution and audit resolution and administrative services; (3) directs and coordinates the development of policy and regulations; (4) oversees the development of annual operating objectives and coordinates HRSA work planning and appraisals; (5) directs and coordinates the Agency's organization, functions and delegations of authority programs; (6) administers the Agency's Executive Secretariat and committee management functions (7) administers the Agency's internal controls and integrity activities; and (8) administers the agency's international health affairs program.

2. Delete the functional statement for the Division of Management Services (RS1) in its entirety and replace with the following:

Division of Management Services (RS1)

Provides agencywide leadership and direction in the areas of management policies and procedures, and property management and serves as the Executive Officer for the Office of Management and Program Support and the Office of the Administrator. Specifically: (1) Provides advice and guidance for the establishment or modification of organizational structures, functions, and delegations of authority; (2) conducts and coordinates the Agency's issuances, reports and mail management programs; (3) manages and maintains a records and forms management program for the Agency, this includes electronic data; (4) manages the intra- and interagency agreements process; (5) conducts agencywide management improvement programs; (6) conducts management and information studies and surveys; (7) oversees and coordinates the implementation of directives and policies relating to the Privacy Act; (8) plans, directs, and coordinates administrative management activities and services including personnel, financial, materiel management, and general administrative services for the Office of the Administrator and the Office of Management and Program Support; (9) acts for the Associate Administrator for Management and Program Support concerning space, parking, and communications management for headquarters and represents him/her in matters relating to the management of the Parklawn Building complex; (10) advises on and coordinates agencywide policies and procedures required to implement General Services Administration and departmental regulations governing materiel management, including travel, transportation, motor vehicle, and utilization and disposal of property; (11) oversees and coordinates the Agency's committee management program; and (12) coordinates the Agency's Alternative Dispute Resolution Program.

3. Delete the functional statement for the Division of Policy Review and Coordination(RS7) in its entirety and replace with the following:

Division of Policy Review and Coordination (RS7)

(1) Advises the Administrator and other key Agency officials on policy issues and assists in the identification and resolution of policy issues and problems; (2) establishes and maintains review and tracking mechanisms and systems that provide agencywide coordination and clearance of policies, regulations and guidelines; (3) contributes to the analysis, development and implementation of agencywide programs and policies through coordination with relevant Agency program components and other related sources; (4) plans, organizes and directs the Agency's Executive Secretariat with primary responsibility for preparation and management of written policy and other communications to and from the Administrator and with Department officials; (5) arranges for briefing Department and OMB officials on critical policy issues and development of necessary background information and prepares briefing documents; (6) administers early alert system for the Agency to assure Department and other officials are notified of concerns, emerging issues and crises associated with primary care, rural health, maternal and child health, AIDS, health professions, organ procurement and other areas within the Agency's mission; and (7) coordinates the preparation of proposed rules and regulations relating to Agency programs and coordinates Agency review and comment on other Department regulations and policy directives that may affect the Agency's programs.

4. Delete the Office of International Health Affairs (RAD) in the Office of the Administrator and place it in the Office of Management and Program Support as the follows:

The Office of International Health Affairs (RS8)

The Office of International Health Affairs serves as a focal point within the Health Resources and Services Administration (HRSA) for leadership, coordination, and advancement of international health activities relating to health care services for vulnerable and at-risk populations and for training programs for health professionals. The office carries out the following functions in coordination with the Department and State Department and to the extent authorized by laws within the authority of HRSA. Specifically: (1) Provides leadership within HRSA for the support for international health in coordinating policy development with other Departmental agencies; (2) provides technical and other support to HRSA components as they interface with Departmental international health activities; (3) develops working relationships with private sector providers and HRSA grantees to assure mutual areas of cooperation, maximization of expertise and coordination as it relates to international health; (4) advises the HRSA Administrator on strategies to maximize the participation of the Agency and its components in international health programs and activities; (5) works with foundations, private agencies and other Federal, State, and local agencies for the effective development of policies and resources relating to health care for vulnerable populations world-wide; (6) coordinates international travel and visitor programs within the jurisdiction of HRSA.

5. Delete the Office of Information Technology (RS6) from the Office of Management and Program Support.

6. Establish the Office of Information Technology (RAG) in the Office of the Administrator as follows:

Office of Information Technology (RAG)

The Office of Information Technology (OIT) is headed by the Chief Information Officer (CIO), whose responsibilities include: (1) Providing advice and assistance to the Administrator and other senior management personnel to ensure that information technology is acquired and information resources are managed in a manner that implements the policies and procedures of the Clinger-Cohen Act and the priorities established by the Secretary; (2) developing, maintaining, and facilitating the implementation of a sound and integrated information technology architecture for the Agency; (3) promoting the effective and efficient design and operation of all major information resources management processes for the Agency, including improvements to work processes of the Agency; (4) monitoring the performance of information technology programs of the Agency, evaluating the performance of those programs on the basis of the applicable performance measurements, and advising the Administrator regarding whether to continue, modify, or terminate a program or project; (5) assessing the requirements established for Agency personnel regarding knowledge and skill in information resources management and the adequacy of such requirements for facilitating the achievement of the performance goals established for information resources management; (6) developing and implementing an effective entity-wide security planning and management program; (7) managing the delivery of critical information technology (IT) services to Agency personnel including: network connectivity, telecommunications, web development and hosting, software training, enterprise applications, information systems security, electronic and IT procurement, desktop support, and cross-cutting data management and analysis activities; (8) maintaining liaisons with other Federal and non-Federal health agencies on matters within its areas of responsibility; and (9) manages the Agency's video conferencing function.

Delegation of Authority

All delegations and redelegations of authorities to officers and employees of the Health Resources and Services Administration which were in effect immediately prior to the effective date of this action will be continued in effect in them or their successors, pending further redelegation, provided they are consistent with this action.

This document is effective upon date of signature.
Dated: October 4, 2001.
Elizabeth M. Duke,
Acting Administrator.

[FR Doc. 01-25840 Filed 10-12-01; 8:45 am]

BILLING CODE 4165-15-P